DEPARTMENT OF THE INTERIOR

Fish and Wildlife Service

50 CFR Part 17

RIN 1018-AI81

Endangered and Threatened Wildlife and Plants; Endangered Status for the Dugong in the Republic of Palau

AGENCY: Fish and Wildlife Service, Interior.

ACTION: Proposed rule; reopening of comment period.

SUMMARY: We, the United States Fish and Wildlife Service (Service), announce the re-opening of the comment period on the proposed listing of the population of dugong, Dugong dugon, in the Republic of Palau as endangered under the Endangered Species Act of 1973, as amended. We are re-opening the comment period to request additional information and comments from the public regarding the proposed rule. Comments previously submitted need not be resubmitted as they will be incorporated into the public record as part of this comment period and will be fully considered in the final rule.

DATES: We will accept public comments until March 3, 2003.

ADDRESSES: Submit any comments, information, and questions by mail to the Chief, Division of Scientific Authority, U.S. Fish and Wildlife Service, 4401 N. Fairfax Drive, Room 750, Arlington, Virginia 22203, or by fax, 703-358-2276, or by e-mail, Scientificauthority@fws.gov. Comments and supporting information will be available for public inspection, by appointment, from 8 a.m. to 4 p.m. at the above address. You may obtain copies of the proposed rule from the above address.

FOR FURTHER INFORMATION CONTACT: Eleanora Babij at the above address, or by phone, 703-358-1708; fax, 703-358-2276; or e-mail, Scientificauthority@fws.gov.

SUPPLEMENTARY INFORMATION:

Background

The dugong, an aquatic, herbivorous mammal, is currently listed under the Endangered Species Act as endangered throughout its entire range, except in the Republic of Palau. It is classified as Vulnerable by The World Conservation Union (IUCN, 2000), and all populations of dugong are listed in Appendix I of the Convention on International Trade in Endangered Species of Wild Fauna and Flora (CITES). The dugong has a large range that covers approximately 37 countries and territories. It is believed that Palauan waters support one of the most isolated populations of dugong in the world. The closest dugong populations are 800 km to the south and 850 km to the west. In both of these areas, dugongs are under threat from human exploitation, and it is unlikely that the Palauan population is supplemented by recruitment from either of these areas. Surveys have been conducted in these waters in 1978, 1983, and 1991. The number of dugongs sighted in the 1991 survey was lower than in the previous two surveys, which suggests a reduction in the number of dugongs in Palauan waters. The major threat to this species in Palau is poaching (UNEP, 2002).

Prior to the enactment of the Endangered Species Act, species were afforded protection through the Endangered Species Conservation Act of 1969. Under this Act, the Service prepared two lists: a “Native” and “Foreign” list. Originally, dugong was included in the “Foreign” list of protected species. When the Endangered Species Act became effective in 1973, it supplanted the Endangered Species Conservation Act of 1969. The “Foreign” and “Native” lists were combined to create one list of endangered and threatened species (39 FR 1171; January 4, 1974). When this happened, the dugong was listed as endangered throughout its entire range.

When the lists were combined, the United Nations Trust Territory of the Pacific Islands (Republic of Palau) was under the jurisdiction of the United States. Section 4(b)(5) of the Endangered Species Act requires that notice of proposed regulations be given to affected States in which the species occurs. The U.S. population of dugong was included on the list without prior notice to the Republic of Palau. Therefore in 1988, the Service amended the Code of Federal Regulations to exclude the U.S. population from the listing. The Republic of Palau was then formally notified and the proposed rule was published in 1993 to extend Endangered status to the dugong population in Palau (58 FR 41688, August 5, 1993). This would then result in the species being classified as endangered throughout its entire range, as intended by the original listing. However, this rule was never finalized, and we are reopening the comment period to allow all interested parties to submit additional information and written comments to be considered by the Service. You may obtain a copy of the 1993 proposed rule by contacting the address listed in ADDRESSES.

Public Comments Solicited

We will accept written comments and information during this re-opened comment period from the public, other concerned governmental agencies, the scientific community, industry, or any other interested party. Comments particularly are sought concerning:

(1) Biological, commercial trade, or other relevant data concerning any threat (or lack thereof) to the dugong in the Republic of Palau;

(2) Additional information concerning the range, distribution, and population size of the dugong in the Republic of Palau;

(3) Current planned activities in the Republic of Palau and their possible impacts on this species.

Our practice is to make comments, including names and home addresses of respondents, available for public review during regular business hours. Any person commenting may request that we withhold their home address, which we will honor to the extent allowable by law. In some circumstances, we may also withhold a commenter's identity, as allowable by law. If you wish us to withhold your name or address, you must state this request prominently at the beginning of your comment. However, we will not consider anonymous comments. To the extent consistent with applicable law, we will make all submissions from organizations or businesses, and from individuals identifying themselves as representatives or officials of organizations or businesses, available for public comment in their entirety. Comments and materials received will be available for public inspection, by appointment, during normal business hours at the above address.

References Cited

UNEP (United Nations Environment Program). 2002. Dugong. Status Report and Action Plans for Countries and Territories. UNEP Early Warning and Assessment Report Series.

Hilton-Taylor, C. (Compiler) (2000). 2000 IUCN Red List of Threatened Species. IUCN, Gland, Switzerland and Cambridge, UK. Xviii + 61 pp.

Author

The primary author of this notice is Eleanora Babij, Division of Scientific Authority, U.S. Fish and Wildlife Service (see ADDRESSES section).

Authority

The authority for this action is the Endangered Species Act of 1973 (16 U.S.C. 1531 et seq.).

Dated: November 1, 2002.
Matt Hogan,
Acting Director, Fish and Wildlife Service.

[FR Doc. 02-30297 Filed 11-29-02; 8:45 am]

BILLING CODE 4310-55-P